DEPARTMENT OF AGRICULTURE

Natural Resources Conservation Service

[Docket No. NRCS-2018-0012]

Lick Creek Watershed, Russell, Dickenson and Wise Counties, Virginia

AGENCY: Natural Resources Conservation Service (NRCS), USDA.

ACTION: Notice of deauthorization of Federal funding.

SUMMARY: NRCS gives notice of the deauthorization of Federal funding for the Lick Creek Watershed project, Russell, Dickenson and Wise Counties, Virginia.

FOR FURTHER INFORMATION CONTACT: For further information contact John Bricker, VA State Conservationist, NRCS, 1606 Santa Rosa Road, Suite 209, Richmond, Virginia 23229, (804) 287-1691 or Jack.Bricker@va.usda.gov.

SUPPLEMENTARY INFORMATION: Pursuant to the Watershed Protection and Flood Prevention Act of 1954 (Pub. L. 83-566) and the Natural Resources Conservation Service Guidelines (7 CFR part 622), and John Bricker, VA State Conservationist, a determination has been made that the proposed works of improvement for the Lick Creek Watershed project will not be installed. The sponsoring local organizations have concurred in this determination and agree that Federal funding should be deauthorized for the project. Information regarding this determination may be obtained from John Bricker, Virginia State Conservationist, at the above address and telephone number.

No administrative action on implementation of the proposed deauthorization will be taken until 60 days after the date of this publication in the Federal Register.

Catalog of Federal Domestic Assistance: Catalog of Federal Domestic Assistance Program No. 10.904, Watershed Protection and Flood Prevention. Executive Order 12372 regarding State and local clearinghouse review of Federal and federally assisted programs and project is applicable.

Signed this 11th day of February, 2019, in Richmond, Virginia.
John A. Bricker,
VA State Conservationist, Natural Resources Conservation Service.

[FR Doc. 2019-02701 Filed 2-19-19; 8:45 am]

BILLING CODE 3410-16-P